DEPARTMENT OF THE INTERIOR

National Park Service

[NPS-WASO-NAGPRA-NPS0037240; PPWOCRADN0-PCU00RP14.R50000]

Notice of Inventory Completion: Longyear Museum of Anthropology, Colgate University, Hamilton, NY

AGENCY: National Park Service, Interior.

ACTION: Notice.

SUMMARY: In accordance with the Native American Graves Protection and Repatriation Act (NAGPRA), the Longyear Museum of Anthropology (LMA) has completed an inventory of human remains and has determined that there is a cultural affiliation between the human remains and Indian Tribes or Native Hawaiian organizations in this notice. The human remains were removed from St. Mary's County, MD.

DATES: Repatriation of the human remains in this notice may occur on or after February 15, 2024.

ADDRESSES: Kelsey Olney-Wall, Repatriation Manager, Longyear Museum of Anthropology, Colgate University, 13 Oak Drive, Hamilton, NY 13346, telephone (315) 228-7677, email kolneywall@colgate.edu.

SUPPLEMENTARY INFORMATION: This notice is published as part of the National Park Service's administrative responsibilities under NAGPRA. The determinations in this notice are the sole responsibility of the LMA. The National Park Service is not responsible for the determinations in this notice. Additional information on the determinations in this notice, including the results of consultation, can be found in the inventory or related records held by the LMA.

Description

At an unknown date, human remains representing, at minimum, one individual were removed from St. Mary's County, MD. Writing on the cranium states “Indian-White Mixture, St. Mary's County, Maryland.” The exact site is uncertain. The human remains were acquired by Professor Frederick Hulse of the Sociology and Anthropology Department at Colgate University through a transfer from T.D. Stewart, Curator of Physical Anthropology at the Smithsonian Institution's National Museum of Natural History (formally the U.S. National Museum) Physical Anthropology department in 1948. It is not known how the Smithsonian Institution acquired this individual prior to 1948. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: geographical information, historical information, kinship, oral tradition, other relevant information, and expert opinion.

Determinations

Pursuant to NAGPRA and its implementing regulations, and after consultation with the appropriate Indian Tribes and Native Hawaiian organizations, the LMA has determined that:

• The human remains described in this notice represent the physical remains of one individual of Native American ancestry.

• There is a relationship of shared group identity that can be reasonably traced between the human remains described in this notice and the Upper Mattaponi Tribe.

Requests for Repatriation

Written requests for repatriation of the human remains in this notice must be sent to the Responsible Official identified in ADDRESSES. Requests for repatriation may be submitted by:

1. Any one or more of the Indian Tribes or Native Hawaiian organizations identified in this notice and, if joined to a request from one or more of the Indian Tribes, the Choptico Band of Indians, Piscataway Conoy Tribe, and the Piscataway Indian Nation, non-federally recognized Indian groups.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after February 15, 2024. If competing requests for repatriation are received, the LMA must determine the most appropriate requestor prior to repatriation. Requests for joint repatriation of the human remains are considered a single request and not competing requests. The LMA is responsible for sending a copy of this notice to the Indian Tribes and Native Hawaiian organizations identified in this notice.

Authority: Native American Graves Protection and Repatriation Act, 25 U.S.C. 3003, and the implementing regulations, 43 CFR 10.9, 10.10, and 10.14.

Dated: January 9, 2024.
Melanie O'Brien,
Manager, National NAGPRA Program.

[FR Doc. 2024-00610 Filed 1-12-24; 8:45 am]

BILLING CODE 4312-52-P